DEPARTMENT OF AGRICULTURE

Food and Nutrition Service

Agency Information Collection Activities: Proposed Collection; Comment Request—School Food Purchase Study—III

AGENCY: Food and Nutrition Service, USDA.

ACTION: Notice.

SUMMARY: In accordance with the Paperwork Reduction Act of 1995, this notice invites the general public and other public agencies to comment on the proposed collection of data for the School Food Purchase Study-III. This is a request for reinstatement with changes of a previously approved OMB package (OMB #0584-0471, expiration data 6/30/98). It is the third in a series of studies designed to provide statistically valid national estimates of the types, amounts, and costs of food acquisitions (both purchased foods and USDA donated commodities) made by public school districts participating in the National School Lunch Program (OMB #0584-006, expiration date 3/31/2009). This proposed collection is in response to a Congressional mandate in the Food, Conservation, and Energy Act of 2008.

DATES: Written comments must be submitted on or before February 20, 2009.

ADDRESSES: Comments are invited on (a) Whether the proposed data collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at 703-305-2576 or via e-mail to Steve.Carlson@fns.usda.gov.

Comments will also be accepted through the Federal eRulemaking Portal. Go to http://www.regulations.gov and follow the online instructions for submitting comments electronically.

All written comments will be open for public inspection at the office of the Food and Nutrition Service during regular business hours (8:30 a.m. to 5 p.m., Monday through Friday) at Room 1014, 3101 Park Center Drive, Alexandria, Virginia 22302.

All responses to this notice will be summarized and included in the request for Office of Management and Budget approval. All comments will also be a matter of public record.

FOR FURTHER INFORMATION CONTACT: Requests for additional information or copies of the information collection forms and instructions should be directed to Steven Carlson on 703-305-2017.

SUPPLEMENTARY INFORMATION: Title: The School Food Purchase Study—III.

OMB Number: OMB #0584-0471.

Expiration Date: 6/30/98.

Type of Request: Reinstatement with changes of a previously approved OMB package.

Abstract: In response to the Congressional mandate in Section 4307 of the Food, Conservation, and Energy Act of 2008, Pub. L. 110-246, (Farm Bill), this study will provide statistically valid national estimates of the types, amounts, and costs of food acquired by local public school districts participating in the National School Lunch Program and School Breakfast Program (OMB # 0584-0012, expiration date 3/31/2009). The study is restricted to public school districts to allow for direct comparisons of results to the previous school food purchase study (School Year 1996-97). For example, the study will examine the changes in the mix of foods acquired by public schools since the School Year 1996-97. In addition, the study will furnish the opportunity for schools to describe their food purchase practices so that information associated with food buying efficiency can be provided to other schools.

A nationally representative sample of approximately 400 School Food Authorities (SFAs) will be scientifically selected and divided into four subsamples of about 100 SFAs each. Each subgroup of 100 SFAs will provide source documents (vendor summaries, invoices, etc.) containing complete food purchase information for all food acquisitions made during a three-month period representing a specific quarter of the school year. The quarterly sample design insures that data is collected across the entire school year and restricts the burden on any one school district to only three months of data collection. SFA food service directors will be asked to describe school food purchase practices and school food service operations. This allows for the examination of relationships between food purchasing practices and costs of foods to schools.

This study will be augmented by the collection of food purchase data and food purchase practice information from a purposive sample of approximately 18 SFAs in areas outside the contiguous United States (Alaska, Hawaii, and Puerto Rico) to examine food costs and procurement procedures in these areas compared to those found in the contiguous United States.

Affected Public: School Food Authorities.

Estimated Number of Respondents: Approximately 418 SFA directors, 400 SFA directors within the contiguous United States and 18 SFA directors from areas outside the contiguous United States.

Estimated Number of Responses per Respondent: 1.

Estimated Total Annual Responses: 418.

Hours per Response: 13.

Estimated Total Annual Burden on Respondents: 5,434 hours.

Dated: December 16, 2008.
E. Enrique Gomez,
Acting Administrator, Food and Nutrition Service.

[FR Doc. E8-30351 Filed 12-19-08; 8:45 am]

BILLING CODE 3410-30-P